DEPARTMENT OF TRANSPORTATION

Federal Motor Carrier Safety Administration

49 CFR Parts 365, 369, 381, 382, 383, 384, 385, 386, 387, 388, 389, 390, 391, 392, 393, 395, and 397

RIN 2126-AB13

Technical Amendments to Federal Motor Carrier Safety Regulations

AGENCY: Federal Motor Carrier Safety Administration (FMCSA), DOT.

ACTION: Final rule.

SUMMARY: This final rule makes technical corrections throughout 49 Code of Federal Regulations subtitle B, chapter III. In 2007, the FMCSA moved to 1200 New Jersey Avenue, SE., Washington, DC 20590. This rule changes obsolete references to the old address. In addition, we are making minor editorial changes to correct errors and omissions and improve clarity. This rule does not make any substantive changes to the affected parts of the Federal Motor Carrier Safety Regulations.

DATES: Effective October 1, 2007.

FOR FURTHER INFORMATION CONTACT: Jason Hartman, Regulatory Development Division, (202) 366-5043, jason.hartman@dot.gov. Office hours are from 8 a.m. to 4:30 p.m., e.t., Monday through Friday, except Federal holidays.

SUPPLEMENTARY INFORMATION:

Legal Basis for the Rulemaking

The provisions of the Federal Motor Carrier Safety Regulations (FMCSRs) amended by this rule are based on many different statutes. The legal authority for each of those provisions was explained when the requirement was originally adopted and is summarized at the beginning of each part in title 49, Code of Federal Regulations (CFR). No further analysis is required here.

A few of the amendments made by this rule are required by the Safe, Accountable, Flexible, Efficient Transportation Equity Act: A Legacy for Users (SAFETEA-LU), Public Law 109-59, August 10, 2005. Because the SAFETEA-LU mandates left the Federal Motor Carrier Administration (FMCSA) no discretion, the changes (described later in the preamble) are appropriate for a technical amendment.

Title 49 CFR, subtitle B, chapter III contains all the FMCSRs.

Background

In 2007, FMCSA moved its headquarters from 400 Seventh Street, SW., Washington, DC 20590 to 1200 New Jersey Avenue, SE., Washington, DC 20590-0001. The move makes it necessary to amend the CFR to change references to our address wherever they occur in the regulations.

This document also makes editorial changes to correct inaccurate references and citations, improve clarity, and fix errors. These minor editorial changes are set out below, in a section-by-section description of the changes.

Changes in SAFETEA-LU affected the financial responsibility requirements of both property and passenger carriers. Section 4120(b)(1) of SAFETEA-LU amended the reach of the financial responsibility statute for property carriers from “transportation of property for compensation by motor vehicle * * *” [49 U.S.C. 31139(b)(1)] to “transportation of property by commercial motor vehicle * * *” Section 4120(a)(1) changed the reach of the financial responsibility statute from “transportation of passengers for compensation by motor vehicle* * *” [49 U.S.C. 31138(a)] to “transportation of passengers by commercial motor vehicle * * *”

A commercial motor vehicle, for these purposes, means a self-propelled or towed vehicle used on the highways in interstate commerce to transport passengers or property, if the vehicle—

(A) Has a gross vehicle weight rating or gross vehicle weight of at least 10,001 pounds, whichever is greater;

(B) Is designed or used to transport more than 8 passengers (including the driver) for compensation;

(C) Is designed or used to transport more than 15 passengers, including the driver, and is not used to transport passengers for compensation * * * [49 U.S.C. 31132(1)(A)-(C)].

Part 387 of 49 CFR has to be changed to reflect these modifications to FMCSA's authority to set insurance standards.

As a result of the change by section 4120(b)(1), the FMCSA no longer has the authority to set insurance standards for small freight vehicles with a GVW/GVR under 10,001 pounds (unless they are hauling placardable quantities of hazardous materials). We are deleting § 387.303(b)(1)(i) to remove the reference to those small freight vehicles. In addition, section 4120(a)(1) modified FMCSA's authority to set insurance standards for passenger carriers. At or below the 15-passenger threshold, FMCSA's authority is limited to passenger vehicles “designed or used to transport more than 8 passengers (including the driver) for compensation.” We are removing the reference in § 387.303 (b)(1)(ii) to “Any vehicle with a seating capacity of 15 passengers or less.” We are adding, instead, a reference to “Any vehicle designed or used to transport more than 8 passengers (including the driver) for compensation.”

These amendments do not impose any new requirements and make no substantive changes to the CFR. Notice and comment are unnecessary.

Section by Section

Section 381.315. Paragraph (d)(2) is amended by replacing the old uniform resource locator (URL) for the DOT Dockets Management System with a new reference to the Federal Docket Management System at http://www.regulations.gov.

Section 385.13. We are amending paragraph (d) by renumbering the subparagraphs and making wording changes to improve clarity.

Section 385.423. Paragraph (c) is amended by replacing the reference to §§ 386.31 and 386.33 with a new reference to §§ 386.5, 386.6, and 386.8. Sections 386.31 and 386.33 were deleted and superseded by §§ 386.6 and 386.5, respectively, on May 18, 2005 (70 FR 28467-28486). The cross reference to § 386.8 is added for clarification.

Part 385 Appendix B, Explanation of Safety Rating Process, is changed to reflect previous amendments to the CFR that were inadvertently never incorporated in the appendix. Before part 382 was revised on August 17, 2001 (66 FR 43103), the post-accident testing requirements for alcohol and controlled substances testing were both in § 382.303(a). For clarification, the revision kept the alcohol testing requirement in paragraph (a) and put the controlled substances testing requirement in paragraph (b). The same 2001 revision of § 382.115 clarified that all the previous implementation dates had elapsed and required all motor carriers, both domestic and foreign, to implement the testing program requirements when they begin operating commercial motor vehicles in the United States. We are changing part 385 Appendix B to correctly reflect those 2001 revisions.

Section 386.2. In the definition of “Assistant Administrator,” § 386.2 is amended by correcting the reference to the United States Code (U.S.C.). The citation, which now reads “49 U.S.C. 113(d),” is changed to read “49 U.S.C. 113(e).”

Section 386.7. We are removing the paragraph designation (a) to correct the section.

Section 387.303. Because of the changes in SAFETEA-LU, described in the “Background” section above, paragraph (b)(1)(i) is rescinded and the table in (b)(1)(ii) is changed. In paragraph (b)(1)(ii), the second entry in the table, which used to cover any passenger vehicle with “a seating capacity of 15 passengers or less,” now is limited to vehicles “designed or used to transport more than 8 passengers (including the driver) for compensation.” Paragraph (b)(1)(ii) is also corrected to remove an obsolete reference to effective dates.

Section 389.5. We are clarifying paragraph (b) by renumbering and by adding a reference to the regulations.gov Web site where readers can have access to the Federal Docket Management System. We are also changing the address in paragraph (a).

Section 390.27. The table is corrected by moving New Mexico into the Western Service Center, which now has responsibility for that State. This document also changes the addresses for the Eastern, Southern, and Western Service Centers.

Section 391.23. Paragraph (c)(4) is corrected by changing “For a drivers” to “For drivers,” to make the sentence grammatically correct.

Section 392.9. Paragraph (a)(1) is amended to correct the cross reference to reflect changes published in the Federal Register on September 27, 2002 (67 FR 61225). The new reference is to §§ 393.100 through 393.136

Section 395.1. On August 25, 2005 (70 FR 50071), the Agency amended the hours of service rules but in instructing the revision of paragraph (g), the Agency inadvertently omitted paragraphs (g)(3)(i) through (iv) of § 395.1 from the annual Code of Federal Regulations for October 1, 2005, and October 1, 2006. The 2005 amendment should have specified the revision of paragraph (g)(3) introductory text; the Agency never intended to remove paragraphs (g)(3)(i) through (iv). We are reinstating those paragraphs to correct that omission. Therefore, amendatory instruction 39 in this rule revises paragraph (g)(3) to correctly reinstate paragraphs (g)(3)(i) through (iv).

Rulemaking Analyses and Notices

Administrative Procedure Act

The Administrative Procedure Act provides exceptions to its notice and public comment procedures when an agency finds there is good cause on the basis that those procedures are “impracticable, unnecessary, or contrary to the public interest.” (See 5 U.S.C. 553(b).) As stated above, the amendments made by this final rule merely update mailing addresses, correct inadvertent errors and omissions, remove obsolete references, and make minor editorial changes to improve clarity and consistency. These amendments do not impose any new requirements, nor do they make any substantive changes to the CFR. For these reasons, the FMCSA finds good cause that notice and public comment are unnecessary. Further, the Agency finds good cause under 5 U.S.C. 553(d)(3) to make the amendments effective upon publication.

Executive Order 12866 (Regulatory Planning and Review) and DOT Regulatory Policies and Procedures

The FMCSA has determined that this action is not a significant regulatory action within the meaning of Executive Order 12866 or within the meaning of Department of Transportation regulatory policies and procedures. The Office of Management and Budget (OMB) did not review this document. We expect the final rule will have minimal costs; therefore, a full regulatory evaluation is unnecessary.

Regulatory Flexibility Act

In compliance with the Regulatory Flexibility Act (5 U.S.C. 601-612), FMCSA has evaluated the effects of this rule on small entities. Because the rule only makes editorial corrections and places no new requirements on the regulated industry, FMCSA certifies that this action will not have a significant economic impact on a substantial number of small entities.

Unfunded Mandates Reform Act of 1995

This rulemaking will not impose an unfunded Federal mandate, as defined by the Unfunded Mandates Reform Act of 1995 (2 U.S.C. 1532, et seq.), that will result in the expenditure by State, local, and tribal governments, in the aggregate, or by the private sector, of $120 million or more in any 1 year.

Executive Order 12988 (Civil Justice Reform)

This action will meet applicable standards in sections 3(a) and 3(b)(2) of Executive Order 12988, Civil Justice Reform, to minimize litigation, eliminate ambiguity, and reduce burden.

Executive Order 13045 (Protection of Children)

The FMCSA analyzed this action under Executive Order 13045, Protection of Children from Environmental Health Risks and Safety Risks. We determined that this rulemaking will not concern an environmental risk to health or safety that may disproportionately affect children.

Executive Order 12630 (Taking of Private Property)

This rulemaking does not effect a taking of private property or otherwise have taking implications under Executive Order 12630, Governmental Actions and Interference with Constitutionally Protected Property Rights.

Executive Order 13132 (Federalism)

The FMCSA analyzed this rule in accordance with the principles and criteria contained in Executive Order 13132. The FMCSA has determined that this rulemaking will not have a substantial direct effect on States, nor will it limit the policy-making discretion of the States. Nothing in this document will preempt any State law or regulation. The FMCSA has therefore determined this rule does not have federalism implications.

Executive Order 12372 (Intergovernmental Review)

The regulations implementing Executive Order 12372 regarding intergovernmental consultation on Federal programs and activities do not apply to this action.

Paperwork Reduction Act

The Paperwork Reduction Act of 1995 (44 U.S.C. 3507(d)) requires that FMCSA consider the impact of paperwork and other information collection burdens imposed on the public. We have determined that no new information collection requirements are associated with this final rule.

National Environmental Policy Act

The FMCSA analyzed this final rule for the purpose of the National Environmental Policy Act of 1969 (42 U.S.C. 4321 et seq.) and determined under our environmental procedures Order 5610.1, issued March 1, 2004 (69 FR 9680), that this action would not have any effect on the quality of the environment. Therefore, this final rule is categorically excluded from further analysis and documentation in an environmental assessment or environmental impact statement.

The FMCSA also analyzed this rule under the Clean Air Act, as amended (CAA), section 176(c) (42 U.S.C. 7401 et seq.), and implementing regulations promulgated by the Environmental Protection Agency. Approval of this action is exempt from the CAA's general conformity requirement since it will have no effect on the environment.

Executive Order 13211 (Energy Effects)

The FMCSA analyzed this action under Executive Order 13211, Actions Concerning Regulations That Significantly Affect Energy Supply, Distribution, or Use. We determined that it is not a “significant energy action” under that Executive Order because it will not be economically significant and will not be likely to have an adverse effect on the supply, distribution, or use of energy.

List of Subjects in 49 CFR Parts 385, 386, 387, 390, 391, 392, and 395

Highway safety, Motor carriers, Insurance, Motor vehicle safety, Reporting and recordkeeping requirements, and Surety bonds.

In consideration of the foregoing, FMCSA amends title 49, Code of Federal Regulations, subtitle B, chapter III, as follows:

PART 365—RULES GOVERNING APPLICATIONS FOR OPERATING AUTHORITY

1. The authority citation for part 365 continues to read as follows:

Authority: 5 U.S.C. 553 and 559; 16 U.S.C. 1456; 49 U.S.C. 13101, 13301, 13901-13906, 14708, 31138, and 31144; 49 CFR 1.73.

§§ 365.405, 365.411, and 365.413 [Amended]

2. In the table below, for each section indicated in the left column, remove the words indicated in the middle column, and add the words indicated in the right column.

Section | Remove | Add
365.405(a)(1) | FMCSA, Licensing Team; (MC-PSDRIS), 400 Seventh Street, SW., Room 8214, Washington, DC 20590 | Federal Motor Carrier Safety Administration, IT Operations Division (MC-RIO), 1200 New Jersey Ave., SE., Washington, DC 20590-0001.
365.411(b) | FMCSA Licensing Team (MC-PSDRIS), 400 Seventh Street, SW., Room 8214, Washington, DC 20590 | Federal Motor Carrier Safety Administration, IT Operations Division (MC-RIO), 1200 New Jersey Ave., SE., Washington, DC 20590-0001.
365.413(b) introductory text | FMCSA, Licensing Team (MC-PSDRIS), Washington, DC 20590 | Federal Motor Carrier Safety Administration, IT Operations Division (MC-RIO), 1200 New Jersey Ave., SE., Washington, DC 20590-0001.

PART 369—REPORTS OF MOTOR CARRIERS

3. The authority citation for part 369 continues to read as follows:

Authority: 5 U.S.C. 553 and 559; 16 U.S.C. 1456; 49 U.S.C. 14123; 49 CFR 1.73.

§ 369.6 [Amended]

4. In § 369.6, remove the words “Federal Motor Carrier Safety Administration, Office of Information Management, 400 Seventh St., SW., Washington, DC 20590” and add, in their place, the words “Federal Motor Carrier Safety Administration, Office of Information Technology (MC-RI), 1200 New Jersey Ave., SE., Washington, DC 20590-0001”.

PART 381—WAIVERS, EXEMPTIONS, AND PILOT PROGRAMS

5. The authority citation for part 381 continues to read as follows:

Authority: 49 U.S.C. 31136(e) and 31315; 49 CFR 1.73.

§§ 381.210, 381.225, 381.310, 381.315, 381.325, 381.410, 381.415 [Amended]

6. In the table below, for each section indicated in the left column, remove the words indicated in the middle column, and add the words indicated in the right column.

Section | Remove | Add
381.210(a) | Federal Motor Carrier safety Administrator, U.S. Department of Transportation, 400 Seventh Street, SW., Washington, DC 20490 | Administrator, Federal Motor Carrier Safety Administration, 1200 New Jersey Ave., SE., Washington, DC 20590-0001.
381.225 | Office of Bus and Truck Research Standards and Operations, Federal Motor Carrier Safety Administration, 400 Seventh Street, SW., Washington, DC 20590. The telephone number is (202) 366-1790 | Federal Motor Carrier Safety Administration, Office of Bus and Truck Standards and Operations (MC-PS), 1200 New Jersey Ave., SE., Washington, DC 20590-0001.
381.310(a) | Federal Motor Carrier Safety Administrator, U.S. Department of Transportation, Federal Motor Carrier Safety Administration, 400 Seventh Street, SW., Washington, DC 20590 | Administrator, Federal Motor Carrier Safety Administration, 1200 New Jersey Ave., SE., Washington, DC 20590-0001.
381.315(d)(1) | Department of Transportation, U.S. DOT Dockets, Room PL-410, 400 Seventh Street, SW., Washington, DC | Department of Transportation, Docket Management Facility, 1200 New Jersey Ave., SE., Washington, DC 20590-0001.
381.315(d)(2) | U.S. DOT Dockets, Room PL-401, by using the universal resources locator (URL): http://dms.dot.gov | Department of Transportation, Docket Management Facility by using the Federal Docket Management System using the uniform resources locator (URL): http://www.regulations.gov.
381.325 | Office of Bus and Truck Standards and Operations, Federal Motor Carrier Safety Administration, 400 Seventh Street, SW., Washington, DC 20590. The telephone number is (202) 366-1790 | Federal Motor Carrier Safety Administration, Office of Bus and Truck Standards and Operations (MC-PS), 1200 New Jersey Ave., SE., Washington, DC 20590-0001.
381.410(a) | Federal Motor Carrier Safety Administrator, U.S. Department of Transportation, 400 Seventh Street, SW., Washington, DC 20590 | Administrator, Federal Motor Carrier Safety Administration, 1200 New Jersey Ave., SE., Washington, DC 20590-0001.
381.415 | Office of Bus and Truck Standards and Operations, Federal Motor Carrier Safety Administration, 400 Seventh Street, SW., Washington, DC 20590. The telephone number is (202) 366-1790 | Federal Motor Carrier Safety Administration, Office of Bus and Truck Standards and Operations (MC-PS), 1200 New Jersey Ave., SE., Washington, DC 20590-0001.

PART 382—CONTROLLED SUBSTANCES AND ALCOHOL USE AND TESTING

7. The authority citation for part 382 continues to read as follows:

Authority: 49 U.S.C. 31133, 31136, 31301 et seq., 31502; and 49 CFR 1.73.

§ 382.119 [Amended]

8. In the table below, for each section indicated in the left column, remove the words indicated in the middle column, and add the words indicated in the right column.

Section | Remove | Add
382.119(b) | Federal Motor Carrier Safety Administrator (or the Administrator's designee), U.S. Department of Transportation, 400 Seventh Street, SW., Washington, DC 20590 | Administrator, Federal Motor Carrier Safety Administration, 1200 New Jersey Ave., SE., Washington, DC 20590-0001.
382.119(e) | Office of Enforcement and Compliance, Federal Motor Carrier Safety Administration, 400 Seventh Street, SW., Washington, DC 20590. The telephone number is (202) 366-5720 | Federal Motor Carrier Safety Administration, Office of Enforcement and Compliance (MC-EC), 1200 New Jersey Ave., SE., Washington, DC 20590-0001.

PART 383—COMMERCIAL DRIVER'S LICENSE STANDARDS; REQUIREMENTS AND PENALTIES

9. The authority citation for part 383 continues to read as follows:

Authority: 49 U.S.C. 521, 31136, 31301 et seq., 31502; sec. 214 of Pub. L. 106-159, 113 Stat. 1766, 1767; sec. 1012(b) of Pub. L. 107-56, 115 Stat. 397; sec. 4140 of Pub. L. 109-59, 119 Stat. 1144; and 49 CFR 1.73.

§ 383.52 [Amended]

10. In § 383.52(c), remove the words “Assistant Administrator, Adjudications Counsel, Federal Motor Carrier Safety Administration (Room 8217), 400 Seventh Street, SW., Washington, DC 20590” and add, in their place, the words “Assistant Administrator, Adjudications Counsel (MC-CC), Federal Motor Carrier Safety Administration, 1200 New Jersey Ave., SE., Washington, DC 20590-0001”.

PART 384—STATE COMPLIANCE WITH COMMERCIAL DRIVER'S LICENSE PROGRAM

11. The authority citation for part 384 continues to read as follows:

Authority: 49 U.S.C. 31136, 31301 et seq., 31502; sec. 103 of Pub. L. 106-159, 113 Stat. 1753, 1767; sec. 4140 of Pub. L. 109-59, 119 Stat. 1144; and 49 CFR 1.73.

§ 384.107 [Amended]

12. In § 384.107(c)(1)(i), remove the words “Department of Transportation Library, 400 Seventh Street, SW., Washington, DC 20590 in Room 2200” and add, in their place, the words “Department of Transportation Library, 1200 New Jersey Ave., SE., Washington, DC 20590-0001”.

PART 385—SAFETY FITNESS PROCEDURES

13. The authority citation for part 385 continues to read as follows:

Authority: 49 U.S.C. 113, 504, 521(b), 5105(e), 5109, 5113, 13901-13905, 31136, 31144, 31148, and 31502; sec. 350 of Pub. L. 107-87; and 49 CFR 1.73.

§ 385.4 [Amended]

14. In § 385.4(b)(2), remove the words “Federal Motor Carrier Safety Administration, Office of Enforcement and Compliance, 400 Seventh Street, SW., Washington, DC 20590” and add in their place the words “Federal Motor Carrier Safety Administration, Office of Enforcement and Compliance (MC-EC), 1200 New Jersey Ave., SE., Washington, DC 20590-0001”.

15. Amend § 385.13 to revise paragraph (d) to read as follows:

§ 385.13 Unsatisfactory rated motor carriers; prohibition on transportation; ineligibility for Federal contracts.

* * * * *

(d) Penalties. (1) If a proposed “unsatisfactory” safety rating becomes final, FMCSA will issue an order placing out of service the motor carrier's operations in commerce. The out-of-service order shall apply both to the motor carrier's operations in interstate commerce and to its operations affecting interstate commerce.

(2) If a motor carrier's intrastate operations are declared out of service by a State, FMCSA must issue an order placing out of service the carrier's operations in interstate commerce. The following conditions apply:

(i) The State that issued the intrastate out-of-service order participates in the Motor Carrier Safety Assistance Program and uses the FMCSA safety rating methodology provided in this part; and

(ii) The motor carrier has its principal place of business in the State that issued the out-of-service order.

(iii) The order prohibiting the motor carrier from operating a CMV in interstate commerce shall remain in effect until the State determines that the carrier is fit.

(3) Any motor carrier that operates CMVs in violation of this section is subject to the penalty provisions of 49 U.S.C. 521(b) and Appendix B to part 386 of the FMCSRs.

§§ 385.15, 385.19, 385.113, 385.203, 385.303, 385.405, 385.415, 385.423 [Amended]

16. In the table below, for each section indicated in the left column, remove the words indicated in the middle column, and add the words indicated in the right column.

Section | Remove | Add
385.15(c) introductory text | Chief Safety Officer, Federal Motor Carrier Safety Administration, 400 Seventh Street, SW., Washington DC 20590 | Chief Safety Officer, Federal Motor Carrier Safety Administration, 1200 New Jersey Ave., SE., Washington, DC 20590-0001.
385.19(c) | Office of Data Analysis and Information Systems (MC RIS), Federal Motor Carrier Safety Administration, 400 Seventh Street, SW., Washington, DC 20590 | Federal Motor Carrier Safety Administration, Office of Information Technology (MC-RI), 1200 New Jersey Ave., SE., Washington, DC 20590-0001.
385.113(b) | Associate Administrator for Enforcement, Federal Motor Carrier Safety Administration, 400 Seventh Street, SW., Washington DC 20590 | Associate Administrator for Enforcement and Program Delivery (MC-E), Federal Motor Carrier Safety Administration, 1200 New Jersey Ave., SE., Washington, DC 20590-0001.
385.203(c) | Office of Professional Development and Training, FMCSA, 400 7th Street, SW., Washington, DC 20590 | Federal Motor Carrier Safety Administration, Professional Development and Training Division (MC-MHT), 4600 N. Fairfax Drive, Suite 700, Arlington, Virginia 22203.
385.303 | FMCSA, 400 7th Street SW., Washington, DC 20590 | Federal Motor Carrier Safety Administration, 1200 New Jersey Ave., SE., Washington, DC 20590-0001.
385.405(b) | Federal Motor Carrier Safety Administration, MC-PSDRIS, Room 8214, 400 7th Street, SW, Washington, DC 20590 | Federal Motor Carrier Safety Administration, Office of Information Technology (MC-RI), 1200 New Jersey Ave., SE., Washington, DC 20590-0001.
385.415(b)(2) | Federal Motor Carrier Safety Administration, Office of Enforcement and Compliance, 400 Seventh Street, SW., Washington, DC 20590 | Federal Motor Carrier Safety Administration, Office of Enforcement and Compliance (MC-EC), 1200 New Jersey Ave., SE., Washington, DC 20590-0001.
385.423(c) introductory text | §§ 386.31 and 386.33 | §§ 386.5, 386.6, and 386.8.
385.423(c)(1)(i) | FMCSA Chief Safety Officer, Federal Motor Carrier Safety Administration, c/o Adjudications Counsel (MC-PSDCC), 400 Seventh Street, SW., Washington, DC 20590 | Chief Safety Officer, Federal Motor Carrier Safety Administration, 1200 New Jersey Ave., SE., Washington, DC 20590-0001 Attention: Adjudications Counsel (MC-CC).
385.423(c)(1)(ii) | FMCSA Chief Counsel, Federal Motor Carrier Safety Administration, Office of the Chief Counsel, Room 8125, 400 Seventh Street, SW., Washington, DC 20590 | Chief Counsel (MC-CC), Federal Motor Carrier Safety Administration, 1200 New Jersey Ave., SE., Washington, DC 20590-0001.

Appendix B to Part 385—[Amended]

17. Amend Appendix B to Part 385—Explanation of Safety Rating Process, section VII, List of Acute and Critical Regulations, by:

a. Adding in numerical order a new entry for § 382.115(b), to read “§ 382.115(b) Failing to implement an alcohol and/or controlled substances testing program (foreign motor carrier) (acute).”;

b. Amending the entry for § 382.303(a) by removing the words “and/or controlled substances”; and

c. Adding in numerical order a new entry for § 382.303(b), to read “§ 382.303(b) Failing to conduct post accident testing on driver for controlled substances (critical).”

PART 386—RULES OF PRACTICE FOR MOTOR CARRIER, BROKER, FREIGHT FORWARDER, AND HAZARDOUS MATERIALS PROCEEDINGS

18. The authority citation for part 386 continues to read as follows:

Authority: 49 U.S.C. 521, 5123, 13301, 13902, 14915, 31132-31133, 31136, 31144, 31502, 31504; sec. 204, Pub. L. 104-88, 109 Stat. 803, 941 (49 U.S.C. 701 note); sec. 217, Pub. L. 105-159, 113 Stat. 1748, 1767; and 49 CFR 1.73.

§ 386.2 [Amended]

19. In § 386.2, in the definition of “Assistant Administrator,” remove “49 U.S.C. 113(d)” and add in its place “49 U.S.C. 113(e)”.

§ 386.7 [Amended]

20. Amend § 386.7(a) by:

a. Removing the paragraph designation “(a)”.

b. Removing the words “U.S. DOT Dockets, 400 7th Street, SW., Room PL-401, Washington, DC 20590” and adding in their place the words “Department of Transportation Docket Management Facility, 1200 New Jersey Ave., SE., Washington, DC 20590-0001”.

PART 387—MINIMUM LEVELS OF FINANCIAL RESPONSIBILITY FOR MOTOR CARRIERS

21. The authority citation for part 387 continues to read as follows:

Authority: 49 U.S.C. 13101, 13301, 13906, 14701, 31138, and 31139; and 49 CFR 1.73.

22. Revise § 387.303(b)(1) to read as follows:

§ 387.303 Security for the protection of the public: Minimum limits.

* * * * *

(b)(1) Motor carriers subject to § 387.301(a)(1) are required to have security for the required minimum limits as follows:

Passenger Carriers: Kind of Equipment: Vehicle seating capacity | Passenger Carriers: Kind of Equipment: Minimum limit
(i) Any vehicle with a seating capacity of 16 passengers or more | $5,000,000
(ii) Any vehicle designed or used to transport more than 8 passengers (including the driver) for compensation | 1,500,000

* * * * *

PART 388—COOPERATIVE AGREEMENTS WITH STATES

23. The authority citation for part 388 continues to read as follows:

Authority: 49 U.S.C. 113 and 502; 49 CFR 1.73.

§ 388.1 [Amended]

24. In § 388.1, remove the words “Washington, DC 20590” and add, in their place, the words “Administrator, Federal Motor Carrier Safety Administration, 1200 New Jersey Ave., SE., Washington, DC 20590-0001”.

PART 389—RULEMAKING PROCEDURES—FEDERAL MOTOR CARRIER SAFETY REGULATIONS

25. The authority citation for part 389 continues to read as follows:

Authority: 49 U.S.C. 113, 501 et seq., 31101 et seq., 31138, 31139, 31301 et seq., and 31502; 42 U.S.C. 4917; and 49 CFR 1.73.

26. Revise § 389.5 to read as follows:

§ 389.5 Regulatory docket.

(a) Information and data deemed relevant by the Administrator relating to rulemaking actions, including notices of proposed rulemaking; comments received in response to notices; petitions for rulemaking and reconsideration; denials of petitions for rulemaking and reconsideration; records of additional rule making proceedings under § 389.25; and final rules are maintained at headquarters, Federal Motor Carrier Safety Administration, 1200 New Jersey Ave., SE., Washington, DC 20590-0001.

(b) Except for material ordered withheld from the public under section 552(b) of title 5 of the United States Code, any person may examine docketed material in the Department of Transportation Docket Management Facility in the following ways:

(1) At headquarters at any time during regular business hours. Copies may be obtained upon payment of a fee.

(2) On the Web site regulations.gov, at any time, by using the uniform resources locator (URL) http://www.regulations.gov. Copies may be downloaded or printed.

§§ 389.31, 389.35 [Amended]

27. In the table below, for each section indicated in the left column, remove the words indicated in the middle column, and add the words indicated in the right column.

Section | Remove | Add
389.31(b)(1) | Administrator, Federal Motor Carrier Safety Administration, 400 Seventh Street, SW., Washington, DC 20590 | Administrator, Federal Motor Carrier Safety Administration, 1200 New Jersey Ave., SE., Washington, DC 20590-0001.
389.35(a) | Administrator, Federal Motor Carrier Safety Administration, 400 Seventh Street, SW., Washington, DC 20590 | Administrator, Federal Motor Carrier Safety Administration, 1200 New Jersey Ave., SE., Washington, DC 20590-0001.

PART 390—FEDERAL MOTOR CARRIER SAFETY REGULATIONS; GENERAL

28. The authority citation for part 390 continues to read as follows:

Authority: 49 U.S.C. 508, 13301, 13902, 31133, 31136, 31502, 31504; sec. 204, Pub. L. 104-88, 109 Stat. 803, 941 (49 U.S.C. 701 note); sec. 114, Pub. L. 103-311, 108 Stat. 1673, 1677; sec. 217, 229, Pub. L. 106-159, 113 Stat. 1748, 1767; and 49 CFR 1.73.

§ 390.19 [Amended]

29. In § 390.19(c)(1), remove the words “Federal Motor Carrier Safety Administration, Data Analysis and Information Systems, MC-PSDRIS, 400 Seventh Street, SW., Washington, DC 20590” and add in their place the words “Federal Motor Carrier Safety Administration, Office of Information Technology (MC-RI), 1200 New Jersey Ave., SE., Washington, DC 20590-0001”.

§ 390.27 [Amended]

30. Amend the table in § 390.27 by:

a. Removing the words from the “location of office” column indicated below in the middle column, and adding the words indicated in the right column.

Section | Remove | Add
390.27 | City Crescent Building, #10 South Howard Street, Suite 4000, Baltimore, MD 21201-2819 | 802 Cromwell Park Drive, Suite N, Glen Burnie, MD 21061.
390.27 | 61 Forsyth Street, SW., Suite 17T75, Atlanta, GA 30303-3104 | 1800 Century Boulevard, Suite 1700, Atlanta, GA 30345-3220.
390.27 | 201 Mission Street, Suite 2100, San Francisco, CA 94105-1838 | Golden Hills Office Centre, 12600 West Colfax Avenue, Suite B-300, Lakewood, CO 80215.

b. Removing “NM” from the “territory included” column for the Southern service center and adding “NM” to the “territory included” column for the Western service center in alphabetical order.

PART 391—QUALIFICATIONS OF DRIVERS AND LONGER COMBINATION VEHICLE (LCV) DRIVER INSTRUCTORS

31. The authority citation for part 391 continues to read as follows:

Authority: 49 U.S.C. 322, 504, 508, 31133, 31136 and 31502; sec. 4007(b) of Pub. L. 102-240 (105 Stat. 2152); sec. 114, Pub. L. 103-311 (108 Stat. 1673, 1677); and 49 CFR 1.73.

§ 391.23 [Amended]

32. In § 391.23(c)(4), remove the words “For a drivers” and add in their place the words “For drivers”.

PART 392—DRIVING OF COMMERCIAL VEHICLES

33. The authority citation for part 392 continues to read as follows:

Authority: 49 U.S.C. 322, 31136, and 31502; section 1041(b) of Pub. L. 102-240, 105 Stat. 1914, 1993 (1991); and 49 CFR 1.73.

§ 392.9 [Amended]

34. In § 392.9(a)(1) remove the words “§§ 393.100 through 393.142 of this subchapter” and add in their place the words “§§ 393.100 through 393.136 of this subchapter.”

PART 393—PARTS AND ACCESSORIES NECESSARY FOR SAFE OPERATION

35. The authority citation for part 393 continues to read as follows:

Authority: 49 U.S.C. 322, 31136, and 31502; section 1041(b) of Pub. L. 102-240, 105 Stat. 1914, 1993 (1991); and 49 CFR 1.73.

§ 393.7 [Amended]

36. In § 393.7(c)(10)(i), remove the words “The Federal Motor Carrier Safety Administration, Office of Bus and Truck Standards and Operations, 400 Seventh Street, SW., Washington, DC 20590” and add in their place the words “Federal Motor Carrier Safety Administration, Office of Bus and Truck Standards and Operations (MC-PS), 1200 New Jersey Ave., SE., Washington, DC 20590-0001”.

§ 393.93 [Amended]

37. In the footnote to § 393.93(a) remove the words “Nassif Building, 400 Seventh Street, SW., Washington, DC 20590” and add in their place the words “1200 New Jersey Ave., SE., Washington, DC 20590-0001”.

PART 395—HOURS OF SERVICE OF DRIVERS

38. The authority citation for part 395 continues to read as follows:

Authority: 49 U.S.C. 504, 14122, 31133, 31136, 31502; sec. 229, Pub. L. 106-159, 113 Stat. 1748; sec. 113, Pub. L. 103-311, 108 Stat. 1673, 1676; and 49 CFR 1.73.

39. In § 395.1, paragraph (g)(3) is revised to read as follows:

§ 395.1 Scope of the rules in this part.

* * * * *

(g) * * *

(3) Passenger-carrying commercial motor vehicles. A driver who is driving a passenger-carrying commercial motor vehicle that is equipped with a sleeper berth, as defined in §§ 395.2 and 393.76 of this subchapter, may accumulate the equivalent of 8 consecutive hours of off-duty time by taking a combination of at least 8 consecutive hours off-duty and sleeper berth time; or by taking two periods of rest in the sleeper berth, providing:

(i) Neither rest period is shorter than two hours;

(ii) The driving time in the period immediately before and after each rest period, when added together, does not exceed 10 hours;

(iii) The on-duty time in the period immediately before and after each rest period, when added together, does not include any driving time after the 15th hour; and

(iv) The driver may not return to driving subject to the normal limits under § 395.5 without taking at least 8 consecutive hours off duty, at least 8 consecutive hours in the sleeper berth, or a combination of at least 8 consecutive hours off duty and sleeper berth time.

* * * * *

PART 397—TRANSPORTATION OF HAZARDOUS MATERIALS; DRIVING AND PARKING RULES

40. The authority citation for part 397 continues to read as follows:

Authority: 49 U.S.C. 322; 49 CFR 1.73. Subpart A also issued under 49 U.S.C. 5103, 31136, 31502, and 49 CFR 1.53. Subparts C, D, and E also issued under 49 U.S.C. 5112, 5125.

§§ 397.71, 397.73, 397.75, 397.101, 397.103, 397.205, 397.213 [Amended]

41. In the table below, for each section indicated in the left column, remove the words indicated in the middle column, and add the words indicated in the right column.

Section | Remove | Add
397.71(b)(1)(ii) footnote | Office of Enforcement and Compliance (MC-PSDECH), Federal Motor Carrier Safety Administration, U.S. Department of Transportation, 400 7th Street, SW., Washington, DC 20590-0001 | Federal Motor Carrier Safety Administration, Office of Enforcement and Compliance (MC-EC), 1200 New Jersey Ave., SE., Washington, DC 20590-0001.
397.73(b) | FMCSA, Office of Enforcement and Compliance (MC-PSDECH), 400 7th St., SW., Washington, DC 20590-0001 by March 13, 1995 | Federal Motor Carrier Safety Administration, Office of Enforcement and Compliance (MC-EC), 1200 New Jersey Ave., SE., Washington, DC 20590-0001.
397.75(b)(1) | Administrator, Federal Motor Carrier Safety Administration, U.S. Department of Transportation, 400 7th Street, SW., Washington, DC 20590-0001. Attention: Office of the Chief Counsel (MC-PSDCC) | Administrator, Federal Motor Carrier Safety Administration, 1200 New Jersey Ave., SE., Washington, DC 20590-0001. Attention: Office of the Chief Counsel (MC-CC).
397.101(g) introductory text | Office of Enforcement and Compliance (MC-PSDECH), Federal Motor Carrier Safety Administration, 400 Seventh Street, SW., Washington, DC 20590-0001 | Federal Motor Carrier Safety Administration, Office of Enforcement and Compliance (MC-EC), 1200 New Jersey Ave., SE., Washington, DC 20590-0001.
397.103(c)(1) | Office of Enforcement and Compliance (MC-PSDECH), Attn: National Hazardous Materials Route Registry, 400 Seventh Street, SW., Washington, DC 20590 | Federal Motor Carrier Safety Administration, Office of Enforcement and Compliance (MC-EC), 1200 New Jersey Ave., SE., Washington, DC 20590-0001. Attention: National Hazardous Materials Route Registry.
397.103(d) | Office of Enforcement and Compliance (MC-PSDECH), 400 Seventh Street, SW., Washington, DC 20590 | Federal Motor Carrier Safety Administration, Office of Enforcement and Compliance (MC-EC), 1200 New Jersey Ave., SE., Washington, DC 20590-0001.
397.205(b)(1) | Administrator, Federal Motor Carrier Safety Administration, U.S. Department of Transportation, Washington, DC 20590-0001. Attention: Office of the Chief Counsel (MC-PSDCC), Hazardous Materials Preemption | Administrator, Federal Motor Carrier Safety Administration, 1200 New Jersey Ave., SE., Washington, DC 20590-0001. Attention: Office of the Chief Counsel, Enforcement and Litigation Division (MC-CCE).
397.213(b)(1) | Administrator, Federal Motor Carrier Safety Administration, U.S. Department of Transportation, Washington, DC 20590-0001. Attention: Office of the Chief Counsel (MC-CC), Hazardous Materials Preemption Docket | Administrator, Federal Motor Carrier Safety Administration, 1200 New Jersey Ave., SE., Washington, DC 20590-0001. Attention: Office of the Chief Counsel, Enforcement and Litigation Division (MC-CCE).

Issued on: September 24, 2007.
John H. Hill,
Administrator.

[FR Doc. E7-19196 Filed 9-28-07; 8:45 am]

BILLING CODE 4910-EX-P